DEPARTMENT OF DEFENSE

Department of the Army

Privacy Act of 1974; System of Records

AGENCY: Department of the Army, DoD.

ACTION: Notice to alter a system of records.

SUMMARY: The Department of the Army proposes to alter a system of records notice in its inventory of records systems subject to the Privacy Act of 1974, (5 U.S.C. 552a), as amended.

DATES: This proposed action will be effective without further notice on January 9, 2006 unless comments are received which result in a contrary determination.

ADDRESSES: Send comments to Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on December 2, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 2, 2005.
L.M. Bynum,
Alternate OSD Federal Register Liaison Officer, Department of Defense.

A0601-210a USAREC

System name:

Enlisted Eligibility Files (April 4, 2003 68 FR 16484).

Changes:

* * * * *

Categories of records in the system:

Add the following: “entrance applications, date of birth, home address and telephone number, and video tapes of the interview.”

Authority for maintenance of the system:

Add the following: “and E.O. 9397 (SSN).”

* * * * *

Storage:

Add the following: “and electronic storage media.”

* * * * *

System manager(s) and address:

Delete entry and replace with: “Commander, U.S. Army Recruiting Command, ATTN: USARCRM-M, Fort Knox, KY 40121-5000.”

Notification procedure:

Delete address and replace with: “Commander, U.S. Army Recruiting Command, ATTN: USARCRM-M, Fort Knox, KY 40121-5000.”

Record source categories:

Delete address and replace with: “Commander, U.S. Army Recruiting Command, ATTN: USARCRM-M, Fort Knox, KY 40121-5000.”

Record access procedure:

Delete address and replace with: “Commander, U.S. Army Recruiting Command, ATTN: USARCRM-M, Fort Knox, KY 40121-5000.”

* * * * *

A0601-210a USAREC

System name:

Enlisted Eligibility Files.

System location:

U.S. Army Recruiting Command, Fort Knox, KY 40121-5000.

Categories of individuals covered by the system:

Applicants for the Regular Army who have requested a waiver of moral eligibility for a juvenile or adult felony; determination of medical/Military Occupational Specialty qualifications, determination of Stripes for Skills qualification; exceptions to policy; determination of enlistment eligibility, and prior service personnel requesting a mental retest.

Categories of records in the system:

Individual's request, evaluation documents, decisions, replies concerning approval/disapproval, entrance applications, date of birth, home address and telephone number, and video tapes of the interview.

Authority for maintenance of the system:

10 U.S.C. 3013, Secretary of the Army; 10 U.S.C. 504, Persons not qualified; Army Regulation 601-210, Regular Army and Army Reserve Enlistment Program, and E.O. 9397 (SSN).

Purpose(s):

To make determinations on the moral, medical, and administrative waivers of applicants for the Regular Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and in electronic storage media.

Retrievability:

By individual's surname.

Safeguards:

Records are maintained within secured buildings in areas accessible only to persons having official need-to-know, and who are properly trained and screened. In addition, access to all records is restricted to designated individuals whose official duties dictate an official need-to-know. Information in automated media is further protected from unauthorized access in locked rooms.

Retention and disposal:

Destroyed after 2 years, by shredding.

System manager(s) and address:

Commander, U.S. Army Recruiting Command, ATTN: USARCRM-M, Fort Knox, KY 40121-5000.

Notification procedure:

Individuals wishing to know whether or not information on them is contained in this system of records should write to the Commander, U.S. Army Recruiting Command, ATTN: USARCRM-M, Fort Knox, KY 40121-5000, furnishing full name, Military Status, current address and telephone number, and signature.

Record access procedures:

Individuals desiring access to records about themselves should write to the Commander, U.S. Army Recruiting Command, ATTN: USARCRM-M, Fort Knox, KY 40121-5000, furnishing full name, Military Status, current address and telephone number, and signature.

Contesting record procedures:

The Army's rules for accessing records, and for contesting contents and appealing initial agency determinations are contained in Army Regulation 340-21; 32 CFR part 505; or may be obtained from the system manager.

Record source categories:

From the individual, employers, probation officials, law enforcement officials, school officials, personal references, transcripts, medical records, Army records and report.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c), and (e) and published in 32 CFR part 505. For additional information contact the system manager.

[FR Doc. 05-23780 Filed 12-7-05; 8:45 am]

BILLING CODE 5001-06-M